ENVIRONMENTAL PROTECTION AGENCY

[FRL-7246-8]

Agency Information Collection Activities: Proposed Collection; Comment Request; 2003 Drinking Water Infrastructure Needs Survey

AGENCY: Environmental Protection Agency.

ACTION: Notice.

SUMMARY: In compliance with the Paperwork Reduction Act (44 U.S.C. 3501 et seq.), this notice announces that the Environmental Protection Agency (EPA) is planning to submit the following proposed Information Collection Request (ICR) to the Office of Management and Budget (OMB): 2003 Drinking Water Infrastructure Needs Survey, EPA ICR #2085.01. Before submitting the ICR to OMB for review and approval, EPA is soliciting comments on specific aspects of the proposed information collection as described below.

DATES: Comments must be submitted on or before September 16, 2002.

ADDRESSES: A copy of the proposed ICR may be requested from and comments may be mailed to David Travers, Drinking Water Protection Division (Mailcode 4606), Office of Ground Water and Drinking Water, U.S. EPA, 1200 Pennsylvania Avenue NW., Washington, DC 20460. Copies of the proposed ICR also may be obtained from the Safe Drinking Water Hotline, toll-free at (800) 426-4791. Hours of operation are 9 a.m. to 5:30 p.m. (ET), Monday-Friday, excluding Federal holidays.

FOR FURTHER INFORMATION CONTACT: David Travers, (202) 564-4638, fax (202) 564-3757, e-mail: travers.david@epa.gov.

SUPPLEMENTARY INFORMATION:

Affected entities: Entities potentially affected by this action are those which own, operate or regulate community water systems including, but not limited to, owners/operators of community water systems, State Environmental Water Quality Agencies, and State Departments of Health.

Title: 2003 Drinking Water Infrastructure Needs Survey, EPA ICR #2085.01.

Abstract: The purpose of this information collection is to identify the infrastructure needs of community public water systems for the 20-year period from January 2003 through December 2022. EPA's Office of Ground Water and Drinking Water (OGWDW) will collect these data to comply with Sections 1452(h) and 1452(i)(4) of the Safe Drinking Water Act (42 U.S.C. 300h).

EPA will use a questionnaire to collect capital investment information from large (serving more than 50,000 people) and medium (serving more than 3,300 people) community water systems. Participation in the survey is voluntary. Information submitted to EPA as part of the survey will be made available upon request under the Freedom of Information Act. However, EPA's experience with the previous two surveys indicate that these data are rarely, if ever, requested. The data from the questionnaires will provide EPA with a basis for estimating the nationwide infrastructure needs of community water systems. Also, as mandated by Section 1452(a)(1)(D)(ii) of the Safe Drinking Water Act, EPA uses the results of the latest survey to allocate Drinking Water State Revolving Fund (DWSRF) monies to the States. Under the allotment formula, each State receives a grant of the annual DWSRF appropriation in proportion to its share of the total national need—with the proviso that each State receive at least 1% of the total funds available.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: It is estimated that this information collection will involve a total cost burden to the respondents of $1,229,764 and a total hour burden to the respondents of 45,057 hours. There will be no capital, start-up or operation and maintenance costs but the collection will involve a one time response, from 3,790 respondents, of approximately 11.8 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: July 10, 2002.
Cynthia Dougherty,
Director, Office of Ground Water and Drinking Water.

[FR Doc. 02-17877 Filed 7-15-02; 8:45 am]

BILLING CODE 6560-50-P